DEPARTMENT OF TRANSPORTATION

Federal Transit Administration

Transfer of Federally Assisted Land or Facility

AGENCY: Federal Transit Administration, DOT.

ACTION: Notice of intent to transfer Federally assisted land or facility.

SUMMARY: Section 5334(h) of the Federal Transit Laws, as codified, 49 U.S.C. 5301, et seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the City of Kenosha (City) intends to transfer a facility located at 3735 65th Street, Kenosha, Wisconsin, to the Public Works Department of the City of Kenosha (Public Works) for the operation of their Street Department Division of Public Works. The City owns the land that the facility sits on and the land purchase was funded with local money. Therefore, FTA has no interest in the land. There is no access to the facility except through the City's property. Any other public agency other than those under the City would have to acquire access to the facility which would prove costly. They would also have to negotiate a lease with the City for the use or possible purchase of the land. The facility is a single story, light industrial/municipal building.

DATES: Effective Date: Any Federal agency interested in acquiring the facility must notify the FTA Region V Office of its interest by February 15, 2008.

ADDRESSES: Interested parties should notify the Regional Office by writing to Marisol Simón, Regional Administrator, Federal Transit Administration, 200 West Adams, Suite 320, Chicago, IL 60606.

FOR FURTHER INFORMATION CONTACT: Rhonda Reed, Deputy Regional Administrator at 312/353-2789.

SUPPLEMENTARY INFORMATION:

Background

49 U.S.C. 5334(h) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. 5334(h)(1)

Determinations:

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(h)(1)(D) of the Federal Transit Laws. Accordingly, FTA hereby provides notice of the availability of the land or facility further described below. Any Federal agency interested in acquiring the affected facility should promptly notify the FTA.

If no Federal agency is interested in acquiring the existing facility, FTA will make certain that the other requirements specified in 49 U.S.C. Section 5334(h)(1)(A) through (C) are met before permitting the asset to be transferred.

Additional Description of Facility

The facility is a single story light industrial/municipal building which is part of a small municipal owner facility that is located just east of 39th Avenue and just south of 65th Street. It is an industrial zoned parcel that has access from 65th Street. It abuts the Union Pacific Railroad track along its southern lot line but does not have direct access to the rail. The facility is situated within the western portion of Kenosha County, adjacent to the southwestern limits of the City. The general neighborhood is mainly single-family residential sites. It also includes some urban properties, as the township-city boundary meanders through the area. The immediate area is more suburban in nature and centers around the intersection of 60th Street (County Trunk Highway K) and State Trunk Highway 31. These two streets provide excellent access to the City of Kenosha and good access to the City of Racine, located six miles north, Interstate 94 which is three miles west and to the State of Illinois which is five miles south. The facility has municipal water, sanitary sewer, curb gutter, gas and electric. Cable and phone service are also available to the site. The facility consists of three parts, the main building, a small wash-bay and a rear-addition. Each is of masonry exterior with steel interior supports, steel decking and concrete slab foundation. It is rectangular in shape with dimensions of 135-feet by 120-feet. The rear addition is 39-feet by 100-feet with the wash-bay being 22-feet by 127-feet. The main portion of the facility is a light industrial space that was used as a municipal storage garage. The garage has seven overhead truck doors off the eastern elevation and five off the west. The southern wash-bay has one overhead door on the east and one on the west. The majority of the building is the garage and shop area that is unfinished with concrete flooring and open steel-beams. The southwestern corner of the facility houses a small office area and employee locker room and lunchroom. The office area is roughly 3,665-square feet of modest finished area with the wash-bay being 2,794-feet. The gross building area is approximately 23,934-square feet.

The facility is heated with suspended gas-fired forced air heaters. The office and employee areas have central air conditioning. Electric service is a 600 amp main with step down circuit breakers. 40-gallon Rheem gas water heaters provide hot water. The entire facility is covered with an interior sprinkler system.

Issued on: January 7, 2008.
Rhonda Reed,
Deputy Regional Administrator.

[FR Doc. E8-281 Filed 1-9-08; 8:45 am]

BILLING CODE 4910-57-P